DEPARTMENT OF TRANSPORTATION

Office of the Secretary

[DOT-OST-2024-0133]

Request for Information on US DOT's Transportation Community Explorer (TC Explorer) Tool and Index Methodology

AGENCY: Office of the Secretary (OST), Department of Transportation (DOT).

ACTION: Request for information.

SUMMARY: The Department of Transportation is issuing this request for information (RFI) to solicit feedback on DOT's updated Transportation Community Explorer (TC Explorer) Tool and Index methodology developed to assist communities in their project selection process and grant development.

DATES: Responses to this RFI should be received by December 16, 2024.

ADDRESSES: Comments should refer to the docket number above and submitted by one of the following methods:

• Federal Rulemaking Portal: https://www.regulations.gov. Follow the online instructions for submitting comments.

• Mail: Docket Management Facility, U.S. Department of Transportation, 1200 New Jersey Avenue SE, West Building Ground Floor, Room W12-140, Washington, DC 20590-0001.

• Hand Delivery: 1200 New Jersey Avenue SE, West Building Ground Floor, Room W12-140, Washington, DC, between 9 a.m. and 5 p.m. ET, Monday through Friday, except Federal Holidays.

Instructions: For detailed instructions on submitting comments, see the Public Participation heading of the SUPPLEMENTARY INFORMATION section of this document. Note that all comments received will be posted without change to https://www.regulations.gov, including any personal information provided.

Privacy Act: Except as provided below, all comments received into the docket will be made public in their entirety. The comments will be searchable by the name of the individual submitting the comment (or signing the comment, if submitted on behalf of an association, business, labor union, etc.). You should not include information in your comment that you do not want to be made public. For information on DOT's compliance with the Privacy Act, please visit https://www.transportation.gov/privacy.

Docket: For access to the docket to read background documents or comments received, go to https://www.regulations.gov or the street address listed above. Follow the online instructions for accessing the dockets.

FOR FURTHER INFORMATION CONTACT: For further information, please contact Kristin Wood, 774-293-2726.

SUPPLEMENTARY INFORMATION:

I. Background

The TC Explorer is data driven tool that allows communities to better identify transportation investments that can benefit communities, including rural and Tribal communities, across a variety of factors. When done right, transportation policy can transform economies, connect people to opportunities, and empower underserved communities to build generational wealth for the future.

In January 2022, DOT developed its first tool to measure how communities were experiencing transportation related disadvantage; then, in April 2023, the Department launched an updated version of the tool titled the DOT Equitable Transportation Community Explorer (ETC Explorer v1.1), which included an updated format and methodology. The Department is currently seeking to make updates that improve the usefulness and accuracy of the tool, particularly for rural and tribal communities, and rename the tool as the Transportation Community (TC) Explorer.

Over the last year and a half, DOT received feedback on the TC Explorer through various RFIs, public meetings and other venues. All comments and recommendations were considered in the proposed update of the tool (TC Explorer). The proposed updates fall into six categories:

1. Updated Methodologies:

a. DOT consolidated the current tool's five components of disadvantage into three:

i. Transportation Insecurity—When people are unable to get to where they need to go to meet the needs of their daily life regularly, reliably, affordably, and safely. Sub-components comprising Transportation Insecurity are cost burden, vehicle access vulnerability, destination access vulnerability and traffic fatality burden.

ii. Place-Based Burden—The disadvantage inherent in a location and experienced by all residents of the location. Sub-components comprising Place-Based Burden are extreme weather hazard, proximity to infrastructure, air pollution, and surface pollution.

iii. Population-Based Vulnerability—The disadvantage experienced by a population due to demographic and socioeconomic traits that make them particularly vulnerable. Sub-components comprising Population-Based Vulnerability are communication, employment, income, housing, and health vulnerabilities.

b. DOT modified the normalization method used to process raw indicator data for inclusion in disadvantage scores to better account for the effects of outliers in the data.

c. DOT has made significant updates to the transportation insecurity methodology. These updates are reflected in both the TC Explorer National and States results, as well as in the Transportation Insecurity Analysis Tool (TIAT).

d. DOT has updated its Climate methodology using the Climate and Transportation Vulnerabilities Methodology from the Fifth National Climate Assessment.

2. Updated Data:

a. The tool has been updated with the most recent data available. (* note: When the updated tool is formally released this winter, it will contain the 2019-2023 American Community Survey 5-year estimate data, if available.)

b. Roads data has been divided into two categories, for freeways and expressways and for high-traffic roads as reported by the Federal Highway Administration (FHWA) Highway Performance Management System.

c. Data sets that contain data for all 50 states have been used.

d. Some data sets have been replaced to better represent/measure how a community is experiencing transportation disadvantage. Some examples of those are—

i. Income Inequality.

ii. Housing Condition.

iii. Access Burden.

iv. Climate.

3. Updated Display: DOT seeks to improve the interface display to increase the user interface with the new version of the TC Explorer. Updates to the display include:

a. State and County Selectors are provided.

b. Statistics related to residents and tracts appears at the top right of the tool.

c. Tabs appear at the bottom right of the tool include: Overall Disadvantage, Transportation Insecurity, Place-Based Burden, Population-Based Insecurity and Raw Data.

d. Instead of bar charts, scores for each component and sub-component are provided on a dial. The scores still represent a project area's disadvantage rating in relation to all other census tracts.

e. The Raw Data tab replaces the current version's pop-up databoxes. It displays the salient raw indicator data for the selected project area.

4. Updated Display Layers: DOT seeks to improve the organization of layers to improve usability by consolidating multiple layers of a similar theme into one layer. For example, in the current tool users click on seven layers to see the intercity bus network. In the proposed updates, users will only need to click on one layer titled “intercity bus”.

5. Removing the “Add Your Data” Tab: DOT found through the comments and interface with users that this feature was not used and further caused confusion for non-GIS users. The data is available for download and can be integrated on a user's platform to integrate with localized data if needed.

6. Updated Transportation Insecurity Analysis Tool (TIAT): Comprehensive updates have been made to the tool's functionality and display. As mentioned earlier, DOT's transportation insecurity methodology has been updated, which is reflected in the TIAT.

The TC Explorer and TIAT mapping tools, index methodologies, and datasets are available at https://experience.arcgis.com/experience/836cf87c91344bb991a1b149873f27af.

II. Key Questions for Input

Through this request for information, DOT seeks input, information, and individual recommendations on DOT's proposed updates to the TC Explorer from a broad array of stakeholders in the public sector, including state, Tribal, and local governments, and territorial areas, and in the private sector, including advocacy, businesses, not-for-profit, academic, and philanthropic organizations, as well as from any other interested parties. DOT will use responses to this RFI to consider both the current proposed and additional updates to the TC Explorer. After DOT has updated the tool with any appropriate modifications, the tool will supersede the current version of the TC Explorer tool. Respondents to this RFI do not need to address every question, but DOT welcomes input in the following areas:

1. Methodology: Please refer to DOT's website for more information regarding the tool's updated methodology available at https://experience.arcgis.com/experience/836cf87c91344bb991a1b149873f27af/page/Data-and-Methodology-Download/. Please provide comments and specific recommendations for improving the methodology.

2. Datasets: Data in this version of the tool provides measures in the areas of Transportation Insecurity, Place-Based Burden, and Population-Based Vulnerability available at https://experience.arcgis.com/experience/836cf87c91344bb991a1b149873f27af.

A. What recommendations for additional datasets would enhance and improve upon the set of indicators currently used? In any comments submitted, please include—

i. Why and how the data recommendations would improve upon the current set of data and/or indicators used in the tool.

ii. Full information regarding data sources (including URL, and source government agency and/or organization);

iii. Intended measure—what does the dataset and/or indicator measure (for example, pollution exposure or emissions, health conditions, transportation access, etc.)?

B. Scope—does the recommended data and/or indicator include data from all 50 states and territories? If not, please provide comments as to how to address the issue.

C. A summary of the quality (i.e., completeness, accuracy, consistency, and reliability) of the data for use in the tool; and

D. Geographic resolution of the data (i.e., census block, census block group, census tract, zip code, county, etc.).

E. Is this data set publicly available?

3. Map Usability and Accessibility. The US DOT Transportation Community Explorer map available at https://experience.arcgis.com/experience/836cf87c91344bb991a1b149873f27af provides an online geospatial platform that gives the user the capability to identify the communities identified as disadvantaged. DOT is soliciting information regarding usability and accessibility of the updated geospatial platform as follows:

i. What modifications can improve the usability, accessibility, or design of the mapping functions that display the data and results?

ii. Are there specific features or functions that will enhance the usability of the interactive map by community members and organizations, government staff, and other stakeholders?

iii. Are there additional resources DOT should consider developing to help users understand the data included in the tool and how to use it in project selection decisions and grant applications?

4. Additional Feedback:

i. Does the tool's name reflect its purpose?

ii. DOT seeks any additional feedback on the updated TC Explorer tool.

Please note: This version of the Transportation Community Explorer map has been developed for illustrative purposes to demonstrate the proposed index methodology. It is subject to change following the public comment period.

III. Public Participation

How do I prepare and submit comments?

To ensure that your comments are filed correctly, please include the docket number provided in (xx) in your comments. Please submit one copy (two copies if submitting by mail or hand delivery) of your comments, including any attachments, to the docket following the instructions given above under ADDRESSES. Please note, if you are submitting comments electronically as a PDF (Adobe) file, we ask that the documents submitted be scanned using an Optical Character Recognition (OCR) process, thus allowing the Agency to search and copy certain portions of your submissions.

How do I submit confidential business information?

Any submissions containing Confidential Information must be delivered to DOT in the following manner:

• Submitted in a sealed envelope marked “confidential treatment requested;”

• Document(s) or information that the submitter would like withheld from the public docket should be marked “PROPIN” for “proprietary information;”

• Accompanied by an index listing the document(s) or information that the submitter would like the Departments to withhold. The index should include information such as numbers used to identify the relevant document(s) or information, document title and description, and relevant page numbers and/or section numbers within a document; and

• Submitted with a statement explaining the submitter's grounds for objecting to disclosing the information to the public.

DOT will treat such marked submissions as confidential consistent with the Freedom of Information Act (FOIA) and not include them in the public docket. DOT also requests that submitters of Confidential Information include a non-confidential version (either redacted or summarized) of those confidential submissions in the public docket. If the submitter cannot provide a non-confidential version of its submission, DOT requests that the submitter post a notice in the docket stating that it has provided DOT with Confidential Information. Should a submitter fail to docket either a nonconfidential version of its submission or to post a notice that Confidential Information has been provided, we will note the receipt of the submission on the docket, with the submitter's organization or name (to the degree permitted by law) and the date of submission.

Will the Agency consider late comments?

DOT will consider all comments received before the close of business on the comment closing date indicated above under DATES. To the extent practicable, DOT will also consider comments received after that date.

How can I read the comments submitted by other people?

You may read the comments received by contacting the Dockets office at the address provided in the ADDRESSES section. The hours of the Docket office are indicated in the ADDRESSES section. You may also see the comments on the internet, identified by the docket number at the heading of this notice, at http://www.regulations.gov.

Please note, this RFI is a planning document and will serve as such. The RFI should not be construed as policy, a solicitation for applications, or an obligation on the part of the government.

Signed in Washington, DC, on November 26, 2024.
Christopher Coes,
Assistant Secretary for Transportation Policy, Department of Transportation.

[FR Doc. 2024-28280 Filed 12-2-24; 8:45 am]

BILLING CODE 4910-9X-P